FEDERAL RESERVE SYSTEM

Change in Bank Control Notices; Formations of, Acquisitions by, and Mergers of Bank Holding Companies; Correction

This notice corrects a notice (FR Doc. 2014-19535) published on pages 48747 and 48748 of the issue for Monday, August 18, 2014.

Under the Federal Reserve Bank of Atlanta heading, the entry for James Lee Clayton and BF3, LP, both of Knoxville, Tennessee; to acquire voting shares of MidCountry Financial Corp, and thereby indirectly acquire voting shares of MidCountry Bank, both in Macon, Georgia, is revised to read as follows:

1. James Lee Clayton and BF3, LP, both of Knoxville, Tennessee; to acquire voting shares of MidCountry Financial Corp, Macon, Georgia, and thereby indirectly acquire voting shares of MidCountry Bank, Marion, Illinois.

Comments on this application must be received by September 2, 2014.

Board of Governors of the Federal Reserve System, August 18, 2014.
Michael J. Lewandowski,
Associate Secretary of the Board.

[FR Doc. 2014-19842 Filed 8-20-14; 8:45 am]

BILLING CODE 6210-01-P